NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 8, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Risk Management Agency (N1-258-08-14, 3 items, 3 temporary items). Records relating to legal matters, including such records as legal opinions and records relating to hearings and other legal proceedings.

2. Department of Agriculture, Risk Management Agency (N1-258-08-17, 1 item, 1 temporary item). Status and activity reports related to financial priorities.

3. Department of Homeland Security, U.S. Secret Service (N1-87-09-5, 3 items, 2 temporary items). Master files associated with an electronic global positioning system that contain data of a routine nature. Also included are backup files. Data that pertains to significant events or unusual occurrences is proposed for permanent retention.

4. Department of the Interior, Office of the Secretary (N1-48-08-6, 7 items, 5 temporary items). Routine correspondence, chronological files, daily schedules, working papers, and other routine administrative records. Proposed for permanent retention are high level program correspondence files and records, such as appointment books and calendars that document the activities of the Secretary.

5. Department of Transportation, Federal Aviation Administration (N1-237-09-1, 2 items, 2 temporary items). Images of agreements relating to flight inspection services and a related data base used to track the status of agreements.

6. Department of the Treasury, Departmental Offices (N1-56-09-5, 2 items, 1 temporary item). Strategic planning records that document the preparation of strategic plans of specific organizations within the Department of the Treasury. Strategic planning records that relate to the Treasury Strategic Plan are proposed for permanent retention.

7. Department of the Treasury, Treasury Inspector General for Tax Administration (N1-56-09-6, 4 items, 4 temporary items). Records related to audits, including guidance documents, reports, studies, and an electronic information system to track audits and manage audit workflow.

8. Department of the Treasury, Alcohol and Tobacco Tax and Trade Bureau (N-564-09-9, 1 item, 1 temporary item). Master files associated with an electronic system used to track and collect special occupational and floor stocks taxes.

9. Department of the Treasury, Alcohol and Tobacco Tax and Trade Bureau (N-564-09-13, 1 item, 1 temporary item). Master files of an electronic information system used to manage library operations.

10. Department of the Treasury, Community Development Financial Institution (N1-56-09-14, 6 items, 6 temporary items). Records relating to the agency's public Web site, including operational records and Web content records.

11. Department of the Treasury, Internal Revenue Service (N1-58-09-33, 1 item, 1 temporary item). Master files associated with an electronic information system used to assist agency employees in contacting other staff who have access to the agency's integrated data retrieval system.

12. Department of the Treasury, Internal Revenue Service (N1-58-09-37, 1 item, 1 temporary item). Master files associated with an electronic information system used to update taxpayer information with the latest transactions and status.

13. Department of the Treasury, Internal Revenue Service (N1-58-09-44, 2 items, 2 temporary items). Master files and outputs associated with an electronic information system used to provide Federal tax deposit coupons to business taxpayers.

14. Department of the Treasury, Internal Revenue Service (N1-58-09-45, 1 item, 1 temporary item). Master files associated with an electronic information system used to generate notices informing taxpayers that there are discrepancies in their tax returns.

15. Equal Employment Opportunity Commission, Office of Inspector General (N1-403-08-1, 7 items, 5 temporary items). Routine investigative files, audit case files, and background materials relating to semiannual reports to Congress. Proposed for permanent retention are semiannual reports to Congress and historically significant investigative case files.

Dated: July 31, 2009.
Michael J. Kurtz,
Assistant Archivist for Records Services, Washington, DC.

[FR Doc. E9-18953 Filed 8-5-09; 8:45 am]

BILLING CODE 7515-01-P